Title 3—

The President

Proclamation 7614 of October 23, 2002

United Nations Day, 2002

By the President of the United States of America

A Proclamation

The United Nations was founded 57 years ago to improve our global community by strengthening the ties among member nations through improved communication, expanded understanding, and enhanced security. On United Nations Day, America joins the world in commemorating the founding of this important international organization and recognizing the profound impact it has had on our world and the role that it continues to play.

Since October 24, 1945, the United Nations Organization has grown to include 191 member states. Through its relief agencies, the U.N. aids and protects millions of refugees and displaced persons worldwide. For example, in 2001, the United Nations World Food Program provided aid to 77 million people in 82 countries and helped to avert a severe famine that threatened Afghanistan. The U.N. also seeks to improve living conditions around the globe by immunizing children, providing safe drinking water, and fighting disease.

The United States remains committed to helping the U.N. to advance human rights, healthcare, security, and education throughout the world; and we will continue to meet these and other commitments as we rejoin the United Nations Educational, Scientific, and Cultural Organization. Our country continues to work with the U.N. in supplying aid for nations and peoples in need or distress, and in providing medical care and other essentials through U.N. agencies such as UNICEF.

As our world faces new challenges and opportunities, the efforts of the United Nations take on a renewed significance. The United States recognizes the U.N. for its efforts to support and strengthen the international coalition against global terror. And we hope the United Nations will fulfill its role in addressing the threats posed to the civilized world, particularly the threat now posed by Iraq. As a founding member of the U.N., the United States reaffirms our dedication to this vital organization and our hope that it will continue to fulfill the vision of its founders.

NOW, THEREFORE, I, GEORGE W. BUSH, President of the United States of America, by virtue of the authority vested in me by the Constitution and laws of the United States, do hereby proclaim October 24, 2002, as United Nations Day. I call upon the people of the United States to observe this day with appropriate programs and activities.

IN WITNESS WHEREOF, I have hereunto set my hand this twenty-third day of October, in the year of our Lord two thousand two, and of the Independence of the United States of America the two hundred and twenty-seventh.

B

[FR Doc. 02-27547

Filed 10-25-02; 8:45 am]

Billing code 3195-01-P